DEPARTMENT OF JUSTICE

Notice of Lodging of Consent Decree Under Comprehensive Environmental Response, Compensation and Liability Act

Under 28 CFR 50.7, notice is hereby given that on December 14, 2004, a proposed Consent Decree in United States v. Alcan Aluminum Corp., Civil No. 04-1435, was lodged with the United States District Court for the Northern District of New York.

This action concerns the Tri Cities Barrel Superfund Site (Site), which is located in Fenton, New York. In this action, the United States asserted claims against Alcan Aluminum Corp: (1) under section 106(b)(1) of the Comprehensive Environmental Response, Compensation and Liability Act (CERCLA), 42 U.S.C. 9606(b)(1), for civil penalties for Alcan's failure to comply with an administrative order issued by the U.S. Environmental Protection Agency (EPA) which required Alcan to participate and cooperate with a group of parties who are performing the remedy for the Site under a Remedial Design/Remedial Action consent decree; and (2) under section 107(a) of CERCLA, 42 U.S.C. 9607(a), for recovery of response costs incurred regarding the Site. The proposed consent decree embodies an agreement with Alcan to pay $600,000 of EPA's past response costs, to pay 80% of all future response costs, up to a $800,000 cap, and to pay a $360,000 civil penalty. The decree provides Alcan with a covenant not to sue under sections 106(b)(1) and 107(a) of CERCLA.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Alcan Aluminum Corp., D.J. No. 90-11-3-1514/2.

The Consent Decree may be examined at the Office of the United States Attorney, 445 Broadway, Albany, NY 12207, and at the Region II Office of the U.S. Environmental Protection Agency, Region II Records Center, 290 Broadway, 17th Floor, New York, NY 10007-1866. During the public comment period, the Consent Decree also may be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury.

Catherine R. McCabe,
Deputy Section Chief, Environmental Enforcement Section, Environment and Natural Resources Division.

[FR Doc. 04-28536 Filed12-28-04; 8:45 am]

BILLING CODE 4410-15-M